DEPARTMENT OF TRANSPORTATION

Federal Transit Administration

Preparation of an Environmental Impact Statement on the Proposed Southwest Transitway Project in Hennepin, Minnesota

AGENCY: Federal Transit Administration, DOT.

ACTION: Notice of Intent to Prepare an Environmental Impact Statement on the Proposed Southwest Transitway Project in Hennepin County, Minnesota.

SUMMARY: The Federal Transit Administration (FTA) and the Hennepin County Regional Railroad Authority (HCRRA) are planning to prepare an environmental impact statement (EIS) for the proposed Southwest Transitway Project, a 14-mile corridor of transportation improvements that links Eden Prairie, Minnetonka, Edina, Hopkins, St. Louis Park, and Minneapolis neighborhoods and downtown Minneapolis. The EIS will be prepared in accordance with the National Environmental Policy Act (NEPA), Minnesota Environmental Policy Act (MEPA) as well as provisions of the Safe, Accountable, Flexible, Efficient Transportation Equity Act: A Legacy for Users (SAFETEA-LU). The purpose of this Notice of Intent (NOI) is to alert interested parties regarding the plan to prepare the EIS to provide information on the nature of the proposed transit project, to invite participation in the EIS process, including comments on the scope of the EIS, including the project purpose and need, the alternatives to be studied, and the potential social, economic, environmental and transportation impacts to be evaluated.

DATES: Written comments on the scope of the EIS by all interested individuals and organizations, public agencies, and Native American Tribes on the scope of the EIS, including the purpose and need for the proposed action; alternatives that may be less costly or have less environmental or community impacts while achieving similar transportation objectives; and the identification of any significant social, economic, or environmental issues relating to the alternatives are invited. Public scoping meetings will be held to accept comments on the scope of the EIS. The scoping meetings will be composed of a one hour public open house followed by a formal public hearing hosted by the HCRRA and will be held at the following locations on the following dates:

Tuesday, October 7, 2008:2 p.m. open house, 3 p.m. public hearing, Hennepin County Government Center, 300 South 6th Street, Minneapolis, MN 55487.

Tuesday October 14, 2008:5 p.m. open house, 6 p.m. public hearing, St. Louis Park City Hall, 5005 Minnetonka Boulevard, St. Louis Park, MN 55416.

Thursday, October 23, 2008:5 p.m. open house, 6 p.m. public hearing, Eden Prairie City Hall, 8080 Mitchell Road, Eden Prairie, MN 55344

The locations for all scoping meetings are accessible to persons with disabilities. Any individual who requires special assistance, such as a sign language interpreter, to participate in a scoping meeting should contact Ms. Katie Walker, AICP, Transit Project Manager, Hennepin County, Housing, Community Works & Transit, 417 North 5th Street, Suite 320, Minneapolis, MN 55401, Telephone: (612) 348-9260; e-mail: Katie.Walker@co.hennepin.mn.us. Requests for special assistance should be made two weeks in advance of the scheduled meeting.

Scoping materials will be available at the meetings and are available by clicking on the Southwest Transitway Web site at www.southwesttransitway.org. Hard copies of the scoping materials are available from Ms. Katie Walker, AICP, at 417 North 5th Street, Suite 320, Minneapolis, MN 55401, Telephone: (612) 348-2190; e-mail: Katie.Walker@co.hennepin.mn.us. An interagency scoping meeting will be scheduled with agencies having an interest in the proposed project.

In addition to receiving comments at the public hearings, the public may submit comments by e-mail, mail, fax, or via the Web site.

ADDRESSES: Written Comments Should Be Sent To: Ms. Katie Walker, AICP, Transit Project Manager, Hennepin County, Housing, Community Works & Transit, 417 North 5th Street, Suite 320, Minneapolis, MN 55401, Telephone: (612) 348-2190; e-mail: Katie.Walker@co.hennepin.mn.us.; Fax: (612) 348-9710; or can be made at www.southwesttransitway.org. Comments will be accepted until 5 PM on November 7, 2008.

FOR FURTHER INFORMATION, CONTACT: Mr. David Werner at FTA, Region V, 200 West Adams Street, Suite 320, Chicago, Illinois 60606, Telephone: (312) 353-2789; e-mail: David.Werner@dot.gov.

SUPPLEMENTARY INFORMATION: The Proposed Project would provide for transit improvements within the Southwest Corridor, which extends approximately 14 miles from downtown Minneapolis to Eden Prairie through St. Louis Park, Hopkins, and Minnetonka. The proposed project was the subject of an Alternatives Analysis (AA), which recommended three light rail transit (LRT) alternatives and one Enhanced Bus alternative for inclusion in an Environmental Impact Statement (EIS). The proposed project would provide high-frequency (7.5 minute peak), bi-directional transit service 20 hours per day seven days per week. Stations are proposed at ½ to 1 mile intervals providing service to key activity centers including, but not limited to, downtown Minneapolis, the new Twins Baseball Stadium, the Walker Art Center, the Minneapolis Convention Center, Eat Street, Uptown, Calhoun Village/Commons, Methodist Hospital, Excelsior/Grand, Cargill, SuperValu, Opus, Golden Triangle, and the Eden Prairie Center Mall.

Purpose and Need for the Project

The intent of the Southwest Transitway Project is to improve mobility, further develop multi-modal options, and increase transportation choices for the traveling public. The overall goals of the proposed project are to: (1) Improve mobility; (2) provide a cost-effective, efficient travel option; (3) protect the environment; (4) preserve and protect the quality of life in the study area and the region; and, (5) support economic development.

The Southwest Transitway was first identified as a potential transitway in the mid-1980s reflecting the projected strong growth for this area by the Metropolitan Council. Since the mid-1980s numerous studies by the Metropolitan Council, Mn/DOT, and Hennepin County have documented the transportation needs of the study area. These studies are available for review at the Southwest Transitway Web site www.southwesttransitway.org. The Southwest Transitway is identified in the Metropolitan Council's Transportation Policy Plan (TPP) as a Tier 2 transitway www.metrocouncil.org.

With Southwest Transitway communities projected to encompass 25 percent of the regional employment base by 2030, the Twin Cities region needs to maintain the ability to travel to, from, and through Southwest Transitway communities efficiently, and at acceptable cost. The six communities that make up the Southwest Transitway study area need to accommodate additional transportation capacity while preserving the corridor's business advantages, environmental features, and quality of life for residents.

Additional considerations supporting the project's need include:

Declining mobility is being experienced by residents, workers and visitors to the study area. This is caused by travel resulting from the high employment and residential growth of the area, which is outstripping the capacity of the existing transportation system. Currently 27 percent of all regional trips begin or end in the corridor and 65 percent of the trips generated within the corridor stay in the corridor. The study area includes two of the region's largest employment centers, downtown Minneapolis with over 140,000 jobs, and Golden Triangle with over 50,000 jobs. Travel on area roadways has increased by 80 to 150 percent over the past 25 years. This has led to increasing congestion with no plans by the state, region or county to significantly expand the roadway system. The area is projected to continue to grow with a significant portion of the 1 million people and 500,000 jobs the region expects to add by 2030 locating within the study area.

Competitive, reliable transit options are not available for many study area choice riders and transit dependent persons. Due to congested roadways and circuitous roadway networks, it is difficult to provide the significant travel time advantages that would attract choice riders to the transit system and to adequately serve transit-dependent people living in and around downtown Minneapolis attempting to access the growing job base in the study area. The study area roadway network is oriented north-south/east-west where development patterns have radiated outward from downtown Minneapolis on a diagonal. The number of transit-dependent people is growing in the study area, primarily in and around downtown Minneapolis. The roadway network through these neighborhoods is circuitous and has many one-way streets.

Alternatives To Be Considered

After a two-year study of transit alternatives, three light rail transit routes (Build Alternatives) have been identified for further evaluation in the EIS to determine which would best serve the study area. Other alternatives currently under consideration include a future No-Build Alternative, and a Transportation Systems Management (TSM) Alternative, also known as Enhanced Bus.

Build Alternatives To Be Considered

Light Rail Transit 1A: This alternative would operate from downtown Minneapolis to Eden Prairie (TH 5) via an extension of the Hiawatha LRT tracks on 5th Street past the downtown Minneapolis Intermodal Station to Royalston Avenue to the Kenilworth Corridor through Minneapolis and the HCRRA property through St. Louis Park, Hopkins, Minnetonka and Eden Prairie terminating at TH 5 and the HCRRA's property. Stations are proposed at Royalston Ave., Van White Blvd., Penn Ave., 21st St., West Lake St., Beltline Blvd., Wooddale Ave., Louisiana Ave., Blake Rd. downtown Hopkins, Shady Oak Rd., Rowland Rd., TH 62, and TH 5.

Light Rail Transit 3A: This alternative would operate from downtown Minneapolis to Eden Prairie (Mitchell Road/TH 5) via an extension of the Hiawatha LRT tracks on 5th Street past the downtown Minneapolis Intermodal Station to Royalston Avenue to the Kenilworth Corridor through Minneapolis, the HCRRA property in St. Louis Park and Hopkins, to new right-of-way through the Opus/Golden Triangle area, the Eden Prairie Major Center area terminating at TH 5 and Mitchell Road. Stations are proposed at Royalston Ave., Van White Blvd., Penn Ave., 21st St., West Lake St., Beltline Blvd. Wooddale Ave., Louisiana Ave., Blake Rd., downtown Hopkins, Shady Oak Rd., Opus, City West, Golden Triangle, Eden Prairie Town Center, SouthWest Station, and Mitchell Rd.

Light Rail Transit 3C: This alternative would operate from downtown Minneapolis to Eden Prairie (Mitchell Road/TH 5) via Nicollet Mall to Nicollet Avenue (tunnel from Franklin Avenue to 28th Street), the Midtown Corridor through Minneapolis, the HCRRA property in St. Louis Park and Hopkins, to new right-of-way through the Opus/Golden Triangle, the Eden Prairie Major Center area terminating at TH 5 and Mitchell Road. Stations are proposed at 4th St., 8th St., 12th St., Franklin Ave., 28th St., Lyndale Ave., Hennepin Ave., West Lake St., Beltline Blvd., Wooddale Ave., Louisiana Ave., Blake Rd., downtown Hopkins, Shady Oak Rd., Opus, City West, Golden Triangle, Eden Prairie Town Center, SouthWest Station, and Mitchell Rd.

No-Build Alternative

The No-Build Alternative contemplates roadway and transit facility and service improvements (other than the proposed project) planned, programmed and included in the Financially Constrained Regional Transportation Policy Plan to be implemented by the Year 2030. It includes minor transit service expansions and/or adjustments that reflect a continuation of existing service policies as identified by the Metropolitan Council. The No-Build Alternative serves as the NEPA baseline against which environmental effects of other alternatives, including the proposed project, will be measured.

Transportation Systems Management (TSM) Alternative

The TSM Alternative (Enhanced Bus) is designed to provide lower cost, operationally-oriented improvements to address the project's purpose and need as much as possible without a major transit investment. It includes minor modifications to the existing express service, and would augment Metro Transit and SouthWest Transit service between Minneapolis and Eden Prairie, Minnetonka, Hopkins, and St. Louis Park. This alternative will serve as the New Starts Baseline against which the cost-effectiveness of the proposed project will be measured, and includes improvements identified in the No-Build Alternative.

In addition to the above described alternatives, other additional reasonable transit alternatives identified through the scoping process that provide similar transportation benefits while reducing or avoiding adverse impacts will be evaluated for potential inclusion in the EIS. Because of the sensitive adjacent land uses located in many parts of this corridor, all alternatives will need to consider a full range of design and mitigation solutions to enlist the support of local communities for the completion of this line.

Probable Effects

The EIS Process and the Role of Participating Agencies and the Public

The purpose of the EIS process is to explore in a public setting the effects of the proposed project and its alternatives on the physical, human, and natural environment. The FTA and the HCRRA will evaluate all significant environmental, social, and economic impacts of the construction and operation of the proposed project. Impact areas to be addressed include: transportation; land use, zoning, and economic development; secondary development; land acquisition, displacements, and relocations; cultural resource, including impacts on historical and archaeological resources and parklands/recreation areas; neighborhood compatibility and environmental justice; natural resource impacts including air quality, wetlands, water resources, noise, vibration; energy use; safety and security; wildlife and ecosystems, including endangered species. Measures to avoid, minimize, and mitigate all adverse impacts will be identified and evaluated.

Regulations implementing NEPA, as well as provisions of the Safe, Accountable, Flexible, Efficient Transportation Equity Act: A Legacy for Users (SAFETEA-LU), call for public involvement in the EIS process. Section 6002 of SAFETEAU-LU requires that FTA and the HCRRA do the following: (1) Extend an invitation to other Federal and non-Federal agencies and Indian tribes that may have an interest in the proposed project to become “participating agencies,” (2) provide an opportunity for involvement by participating agencies and the public in helping to define the purpose and need for a proposed project, as well as the range of alternatives for consideration in the EIS, and (3) establish a plan for coordinating public and agency participation in, and comment on, the environmental review process. An invitation to become a participating agency, with the scoping materials appended, will be extended to other Federal and non-Federal agencies and Native American tribes that may have an interest in the proposed project. It is possible that FTA and the HCRRA will not be able to identify all Federal and non-Federal agencies and tribes that may have such an interest. Any Federal or non-Federal agency or tribe interested in the proposed project that does not receive an invitation to become a participating agency should notify, at the earliest opportunity, the Project Manager identified above under ADDRESSES.

A comprehensive public involvement program will be developed and a Coordination Plan for public and interagency involvement will be created and posted on the project Web site at www.southwesttransitway.org.

The public involvement program includes a full range of involvement activities including the project Web site (referenced above); outreach to local officials, community and civic groups, and the public; and development and distribution of project newsletters. Specific mechanisms for involvement will be detailed in the public involvement program.

The public and participating agencies are invited to consider and comment on this preliminary statement of the purpose and need for the proposed Southwest Transitway project. Suggestions for modifications to the statement of purpose and need for the proposed project are welcome and will be given serious consideration. Comments on potentially significant environmental impacts that may be associated with the proposed project and alternatives are also welcome. There will be additional opportunities to participate in the scoping process at the public meetings announced in this notice.

The HCRRA will be seeking New Starts funding for the proposed project under 49 U.S.C. 5309 and, therefore, will be subject to New Starts regulations (49 CFR Part 611). The New Starts regulation requires a planning Alternatives Analysis that leads to the selection of a locally preferred alternative and the inclusion of the locally preferred alternative as part of the long-range transportation plan adopted by the Metropolitan Council. The New Starts regulation also requires the submission of certain project-justification information in support of a request to initiate preliminary engineering, and this information is normally developed in conjunction with the NEPA process. Pertinent New Starts evaluation criteria will be included in the Final EIS.

The EIS will be prepared in accordance with NEPA and its implementing regulations issued by the Council on Environmental Quality (40 CFR parts 1500-1508) and with the FTA/Federal Highway Administration regulations “Environmental Impact and Related Procedures” (23 CFR part 771). In accordance with 23 CFR 771.105(a) and 771.133, FTA will comply with all Federal environmental laws, regulations, and executive orders applicable to the proposed project during the environmental review process to the maximum extent practicable. These requirements include, but are not limited to, the environmental and public hearing provisions of Federal transit laws (49 U.S.C. 5301(e), 5323(b), and 5324), the project-level air quality conformity regulation of the U.S. Environmental Protection Agency (EPA) (40 CFR part 93), the Section 404(b)(1) guidelines of EPA (40 CFR part 230), the regulation implementing Section 106 of the National Historic Preservation Act (36 CFR part 800), the regulation implementing Section 7 of the Endangered Species Act (50 CFR part 402), Section 4(f) of the Department of Transportation Act (23 CFR 771.135), and Executive Orders 12898 on Environmental justice, 11988 on Floodplain Management, and 11990 on Wetlands.

Issued on September 18, 2008.
Marisol R. Simon,
Regional Administrator, Region V, Federal Transit Administration.

[FR Doc. E8-22257 Filed 9-22-08; 8:45 am]

BILLING CODE 4910-57-P